DEPARTMENT OF COMMERCE

United States Patent and Trademark Office

Submission for OMB Review; Comment Request

The United States Patent and Trademark Office (USPTO) will submit to the Office of Management and Budget (OMB) for clearance the following proposal for collection of information under the provisions of the Paperwork Reduction Act (44 U.S.C. chapter 35).

Agency: United States Patent and Trademark Office (USPTO).

Title: Patent and Trademark Resource Centers Metrics.

Form Number(s): N/A.

Agency Approval Number: 0651-00xx.

Type of Request: New information collection.

Burden: 162 hours annually.

Number of Respondents: 324 responses per year (81 libraries reporting their metrics quarterly).

Avg. Hours Per Response: The USPTO estimates that it will take the Patent and Trademark Resource Center (PTRC) librarians approximately 30 minutes (0.50 hours) to submit the information in this collection, including the time to gather the necessary information, prepare the worksheet, and submit the completed request to the USPTO.

Needs and Uses: The USPTO has developed an electronic worksheet to gather the metrics required under 35 U.S.C. 2(a)(2). The PTRCs will use this electronic worksheet to provide quarterly metrics to the USPTO concerning the public's use of the member library's patent and trademark services and the member library's public outreach efforts. The USPTO will use the information in this collection to determine how to more effectively train the PTRC staff and to determine what types of new and different services the PTRCs should provide to the public in the future.

Affected Public: Non-profit organizations.

Frequency: Quarterly.

Respondent's Obligation: Required to obtain or retain benefits.

OMB Desk Officer: Nicholas A. Fraser, email: Nicholas_A._Fraser@omb.eop.gov.

Once submitted, the request will be publicly available in electronic format through the Information Collection Review page at http://www.reginfo.gov.

Paper copies can be obtained by:

• Email: InformationCollection@uspto.gov. Include “0651-00xx Patent and Trademark Resource Centers Metrics copy request” in the subject line of the message.

• Mail: Susan K. Fawcett, Records Officer, Office of the Chief Information Officer, United States Patent and Trademark Office, P.O. Box 1450, Alexandria, VA 22313-1450.

Written comments and recommendations for the proposed information collection should be sent on or before February 16, 2012 to Nicholas A. Fraser, OMB Desk Officer, via email to Nicholas_A._Fraser@omb.eop.gov, or by fax to (202) 395-5167, marked to the attention of Nicholas A. Fraser.

Dated: January 11, 2012.
Susan K. Fawcett,
Records Officer, USPTO, Office of the Chief Information Officer.

[FR Doc. 2012-720 Filed 1-13-12; 8:45 am]

BILLING CODE 3510-16-P